ENVIRONMENTAL PROTECTION AGENCY

[FRL-9982-12-OEI]

Privacy Act of 1974; System of Records; Correction

AGENCY: Environmental Protection Agency (EPA).

ACTION: Notice of a New System of Records; correction.

SUMMARY: The Environmental Protection Agency's (EPA) Office of Environmental Information (OEI), Office of Enterprise Information Programs (OEIP), eDiscovery Division, published a document in the Federal Register of July 27, 2018, giving notice that it proposes to establish a new system of records pursuant to the provisions of the Privacy Act of 1974 (5 U.S.C. 552a). The document did not include the comments due by date.

FOR FURTHER INFORMATION CONTACT: Brian K. Thompson, Acting Director, 202-564-4256.

SUPPLEMENTARY INFORMATION:

Correction

In the Federal Register of July 27, 2018, in FR Doc. 2018-16117, on page 35637, in the first column, correct the DATES caption to read:

DATES: Persons wishing to comment on this system of records notice must do so by August 27, 2018. If no comments are received, the systems of records notice will become effective by August 27, 2018.

Dated: August 7, 2018.
Amy Lamson,
Acting Director, Office of Policy, Regulatory Management Division.

[FR Doc. 2018-17194 Filed 8-9-18; 8:45 am]

BILLING CODE 6560-50-P